DEPARTMENT OF ENERGY

Federal Energy Regulatory Commission

[Docket No. OR11-3-000]

ConocoPhillips Company v. Enterprise TE Products Pipeline Company LLC; Notice of Complaint

December 1, 2010.

Take notice that on November 30, 2010, pursuant to Rule 206 of the Rules of Practice and Procedure, 18 CFR 385.206, section 343.2 of the Commission's Rules Applicable to Oil Pipeline Proceedings, 18 CFR 343.2 and sections 1, 6, 13, and 15 of the Interstate Commerce Act (ICA), ConocoPhillips Company (ConocoPhillips or Complainant) filed a complaint against Enterprise TE Products Pipeline Company LLC (Enterprise TEPPCO or Respondent) alleging that Enterprise TEPPCO has refused to provide common carrier transportation of propane from ConocoPhillips' refinery in Trainer, Pennsylvania following a request by ConocoPhillips for such transportation. ConocoPhillips therefore requests that the Commission order Enterprise TEPPCO to list Trainer, Pennsylvania as an origin in its tariff. ConocoPhillips also requests that the Commission order Enterprise TEPPCO to include in its tariff the transportation of propane under exchange or backhaul agreements that use and depend on the physical facilities of the pipeline.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on December 22, 2010.

Kimberly D. Bose,
Secretary.

[FR Doc. 2010-30756 Filed 12-7-10; 8:45 am]

BILLING CODE 6717-01-P